DEPARTMENT OF AGRICULTURE

Forest Service

Notice of Proposed New Fee Sites—Federal Lands Recreation Enhancement Act, (Title VIII, Pub. L. 108-447)

AGENCY: Rogue River—Siskiyou National Forest, USDA Forest Service.

ACTION: Notice of proposed new fee sites.

SUMMARY: The Rogue River—Siskiyou National Forest is planning to charge fees at four new recreational-rental facilities. All four sites are Forest Service structures that are listed on the National Register of Historic Places; each of them has recently been repaired/restored and has had amenities added to improve services and experiences. Big Elk Guard Station, Lodgepole Guard Station, and Hershberger Mountain Lookout (all located on the High Cascades Ranger District) will become available for overnight rental; Squaw Peak Lookout (on the Siskiyou Mountains Ranger District) will also become available for overnight rental. Although different at each site, the new amenities range from electricity (Big Elk) and running water/indoor toilet (Lodgepole ) to vault toilets, working fireplaces, horse paddocks, and/or road-access improvements. The range of fees stated here is only proposed, and the actual fee for each site will be determined upon further analysis and public comment. Funds from fees would be used for the continued operation and maintenance of these recreation sites.

A financial analysis is being done to determine the rental fees, but they may range between $40 and $80 per night. The Rogue River—Siskiyou National Forest currently has ten other rental cabins or lookouts, and they are often booked up during the recreation season. The fees would continue to help preserve these particular structures and maintain their historic integrity.

DATES: New fees would begin after May 2008 and contingent upon completion of certain improvements. The rentals would be available once a final decision is made and they are listed with the National Recreation Reservation Service.

ADDRESSES: Scott Conroy, Forest Supervisor, Rogue River—Siskiyou National Forest, 333 West 8th St., Medford, Oregon 97501.

FOR FURTHER INFORMATION CONTACT: John Borton, Recreation Fee Coordinator, 541-858-2300. Information about proposed fee changes can also be found on the Rogue River—Siskiyou National Forest Web site: http://www.fs.fed.us/r6/rogue-siskiyou.

SUPPLEMENTARY INFORMATION: The Federal Recreation Lands Enhancement Act (Title VII, Pub. L. 108-447) directed the Secretary of Agriculture to publish a six-month advance notice in the Federal Register whenever new recreation fee areas are established.

Once public involvement is complete, these new fees will be reviewed by a Recreation Resource Advisory Committee prior to a final decision and implementation.

Once in operation, people wanting to rent Big Elk Guard Station, Lodgepole Guard Station, Hershberger Mountain Lookout, or Squaw Peak Lookout would need to do so through the National Recreation Reservation Service, at http://www.reserveusa.com or by calling 1-877-444-6777.

Dated: November 27, 2007.
Scott Conroy,
Forest Supervisor.

[FR Doc. E7-23648 Filed 12-5-07; 8:45 am]

BILLING CODE 3410-11-P